DEPARTMENT OF TRANSPORTATION

Federal Aviation Administration

RTCA SC-230 Plenary #9 Meeting Call Notice: WG-95 “Inflight Ice Long Range Awareness Systems” Meeting #5

AGENCY: Federal Aviation Administration (FAA), U.S. Department of Transportation (DOT).

ACTION: RTCA SC-230 Plenary #9 Meeting Call Notice: WG-95 “Inflight Ice Long Range Awareness Systems” Meeting #5.

SUMMARY: The FAA is issuing this notice to advise the public of a meeting of RTCA SC-230 Plenary #9 Meeting Call Notice: WG-95 “Inflight Ice Long Range Awareness Systems” Meeting #5.

DATES: The meeting will be held October 4-6, 2016, 08:30 a.m.-5:00 p.m. Tuesday, 08:45 a.m.-5:00 p.m. Wednesday, 08:45 a.m.-15:00 p.m. Thursday.

ADDRESSES: The meeting will be held at: Airbus France SAS, 316 route de Bayonne, 31060 Toulouse, Saint-Martin, France.

FOR FURTHER INFORMATION CONTACT: Karan Hofmann at khofmann@rtca.org or (202) 330-0680, Adrian Cioranu at adrian.cioranu@eurocae.net or +33 1 40 92 79 31, or The RTCA Secretariat, 1150 18th Street NW., Suite 910, Washington, DC 20036, or by telephone at (202) 833-9339, fax at (202) 833-9434, or Web site at http://www.rtca.org.

If you plan to attend please email by September 16, 2016: Luke Tschacher at Luke.A.Tschacher@boeing.com and Camille Caruhel at camille.caruhel@airbus.com.

SUPPLEMENTARY INFORMATION: Pursuant to section 10(a)(2) of the Federal Advisory Committee Act (Pub. L. 92-463, 5 U.S.C., App.), notice is hereby given for a meeting of the RTCA SC-230 Plenary #9 Meeting Call Notice: WG-95 “Inflight Ice Long Range Awareness Systems” Meeting #5. The agenda will include the following:

Tuesday, October 4, 2016

08:30-08:50 Arrive at the Airbus Saint-Martin main entrance for badges and transfer to the conference room

09:00-10:15 Airbus presentation (by Gilles CESCON, Head of Manage Flight domain: MRM-TO-M63-1-SALLE 4)

10:15-11:00 Plenary session with WG95 main group (Building M67, Conference Room S126)

11:00-12:00 Introduction for the WG95-SG and Action Item Review

12:00-13:00 Lunch break @ Airbus

13:00-17:00 Review of the actions answers. Close discussion on HMI and write down the guidelines

Wednesday, October 5, 2016

08:45-09:00 Arrive at the Airbus Saint-Martin main entrance for badges and transfer to the conference room (Building M67, Conference Room S384)

09:00-12:00 Review of the whole document and closure of all comments

12:00-13:00 Lunch break @ Airbus

13:00-15:00 Review of the whole document and closure of all comments

Thursday, October 6, 2016

08:45-09:00 Arrive at the Airbus Saint-Martin main entrance for badges and transfer to the conference room (Building M67, Conference Room S052)

09:00-12:00 Review of the whole document and closure of all comments

12:00-13:00 Lunch break @Airbus

13:00-15:00 Review of the whole document and closure of all comments

15:00-17:00 Wrap up of discussion, open discussion items, and conclusions

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 9, 2016.
Mohannad Dawoud,
Management & Program Analyst, Partnership Contracts Branch, ANG-A17, NextGen, Procurement Services Division, Federal Aviation Administration.

[FR Doc. 2016-19408 Filed 8-12-16; 8:45 am]

BILLING CODE 4910-13-P